DEPARTMENT OF HEALTH AND HUMAN SERVICES

Administration for Children and Families

Delegation of Authority

Notice is hereby given that I have delegated to the Assistant Secretary for Children and Families the authority vested in the Secretary of Health and Human Services to continue the administration of grants and contracts initially awarded in Fiscal Years 2002, 2003 and 2004 under the Special Projects of Regional and National Significance (SPRANS) Community-based Abstinence Education Program, pursuant to Title V, section 501(a)(2) of the Social Security Act, as amended. The SPRANS Community-based Abstinence Education Program includes Community-based Abstinence Education grants, Abstinence Education Special Congressional Initiative Project grants, and the Abstinence Education Technical Assistance contract with the National Abstinence Clearinghouse. This delegation permits the Assistant Secretary for Children and Families to administer FY 2002, 2003 and FY 2004 SPRANS abstinence education grants under the terms and conditions of the initial awards, thereby allowing the continuation of the existing grants consistent with recent appropriations enactments (Pub. L. 108-477).

This delegation shall be exercised under the Department's policy on regulations and the existing delegation of authority to approve and issue regulations, excludes the authority to issue reports to Congress, to take final action to withhold funds from States, and to act under the nondiscrimination provisions of the Social Security Act.

This delegation also supersedes all prior delegations of authority to the extent that they are inconsistent with the provisions of this delegation. Except as specified above, the existing delegations of authority concerning Title V of the Social Security Act are unaffected, including those existing delegations of authority that permit the Health Resources and Services Administration to administer all other Special Projects of Regional and National Significance under section 501(a)(2) of the Social Security Act.

I have ratified any actions taken by the Assistant Secretary for Children and Families, or any other Administration for Children and Families officials, which, in effect, involved the exercise of this authority prior to the effective date of this delegation.

This delegation is effective on the date of signature.

Dated: May 31, 2005.
Michael O. Leavitt,
Secretary.

[FR Doc. 05-11842 Filed 6-15-05; 8:45 am]

BILLING CODE 4184-01-M